NUCLEAR REGULATORY COMMISSION

10 CFR Part 72

[NRC-2020-0059]

Guidance: Changes, Tests, and Experiments

AGENCY: Nuclear Regulatory Commission.

ACTION: Regulatory guide; issuance.

SUMMARY: The U.S. Nuclear Regulatory Commission (NRC) is issuing Revision 1 to Regulatory Guide (RG) 3.72, “Guidance for Implementation of Changes, Tests, and Experiements.” Revision 1 to RG 3.72 endorses Nuclear Energy Institute (NEI) 12-04, Revision 2. NEI 12-04, Revision 2, updates and revises previous guidance to incorporate operating experience and NRC's inspection findings. In addition, RG 3.72, Revision 1, changes the NRC's guidance on departures from a method of evaluation (MOE) and the NRC's approval of an MOE.

DATES: Revision 1 to RG 3.72 is available on September 28, 2020.

ADDRESSES: Please refer to Docket ID NRC-2020-0059 when contacting the NRC about the availability of information regarding this document. You may obtain publicly-available information related to this document using any of the following methods:

• Federal Rulemaking Website: Go to https://www.regulations.gov and search for Docket ID NRC-2020-0059. Address questions about Docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

Revision 1 to RG 3.72 and the regulatory analysis may be found in ADAMS under Accession Nos. ML20220A185 and ML19269B764, respectively.

Regulatory guides are not copyrighted, and NRC approval is not required to reproduce them.

FOR FURTHER INFORMATION CONTACT: Marlone Davis, Office of Nuclear Material Safety and Safeguards, telephone: 301-415-7447, email: Marlone.Davis@nrc.gov and Harriet Karagiannis, Office of Nuclear Regulatory Research, telephone: 301-415-2493, email: Harriet.Karagiannis@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 1 of RG 3.72 was issued with a temporary identification of Draft Regulatory Guide, DG-3054, titled, “Guidance for Implementation of 10 CFR 72.48, `Changes, Tests, And Experiments' ” (ADAMS Accession No. ML19269B763). Revision 1 to RG 3.72 describes an approach that is acceptable to NRC to meet regulatory requirements related to changes affecting independent spent fuel storage installations, spent fuel storage cask designs, and monitored retrievable storage installations by endorsing guidance document NEI 12-04, Revision 2, “Guidelines for 10 CFR 72.48 Implementation,” with clarifications and exceptions.

II. Additional Information

The NRC published a notice of the availability of DG-3054 in the Federal Register on June 2, 2020 (85 FR 33582) for a 60-day public comment period. The public comment period closed on August 3, 2020, and the NRC received six comment documents. Public comments on DG-3054 and the staff responses to the public comments are available in ADAMS under Accession No. ML20220A183. Revision 1 to RG 3.72 may be found in ADAMS under Accession No. ML20220A185.

III. Congressional Review Act

This RG is a rule as defined in the Congressional Review Act (5 U.S.C. 801-808). However, the Office of Management and Budget has not found it to be a major rule as defined in the Congressional Review Act.

IV. Backfitting, Forward Fitting, and Issue Finality

Issuance of this regulatory guide in final form would not constitute backfitting as defined in title 10 of the Code of Federal Regulations (10 CFR) section 72.62, “Backfitting,” and as described in NRC Management Directive 8.4, “Management of Backfitting, Forward Fitting, Issue Finality, and Information Requests” (ADAMS Accession No. ML18093B087). As explained in section D., “Implementation,” of the regulatory guide, licensees are not be required to comply with the positions set forth in this regulatory guide.

Dated: September 22, 2020.
For the Nuclear Regulatory Commission.
Meraj Rahimi,
Chief, Regulatory Guidance and Generic Issues Branch, Division of Engineering, Office of Nuclear Regulatory Research.

[FR Doc. 2020-21299 Filed 9-25-20; 8:45 am]

BILLING CODE 7590-01-P